DEPARTMENT OF TRANSPORTATION

National Highway Traffic Safety Administration

[U.S. DOT Docket Number NHTSA-2001-10735]

Reports, Forms, and Record keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before December 4, 2001.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Gregory Rymarz, NHTSA 400 Seventh Street, SW., Room 5208, NPP-22, Washington, DC 20590. Mr. Gregory Rymarz's telephone number is (202) 366-2570. Please identify the relevant collection of information by referring to its OMB Control Number.

SUPPLEMENTARY INFORMATION: Under the Paperwork Reduction Act of 1995, before an agency submits a proposed collection of information to OMB for approval it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: Highway Crash Data Collection for the Evaluation of Antilock Brake Systems (ABS) and Rear Impact Guards on Heavy Vehicles.

OMB Control Number: New.

Affected Public: State and Local Governments.

Form Number: N/A.

Abstract: As required by the Government Performance and Results Act of 1993 and Executive Order 12866 (58 FR 51735), NHTSA reviews existing regulations to determine if they are achieving policy goals. Safety Standard 121 (49 CFR 571.121) requires Antilock Brake Systems (ABS) on air-brake equipped truck-tractors manufactured on or after March 1, 1997 and on semi-trailers and single-unit trucks equipped with air brakes and manufactured on or after March 1, 1998. Safety Standards 223 (49 CFR 571.223) and 224 (49 CFR 571.224) set minimum requirements for the geometry, configuration, strength and energy absorption capability of rear impact guards on full trailers and semi-trailers over 10,000 pounds Gross Vehicle Weight Rating manufactured on, or after, January 26, 1998. NHTSA's Office of Plans and Policy is planning a highway crash data collection effort that will provide adequate information to perform an evaluation of the effectiveness of ABS and rear impact guards for heavy trucks. This study will estimate the actual safety benefits (crashes, injuries, and fatalities avoided) achieved by the standards and provide a basis for assessing whether the standards are functioning as intended. Highway crash data will be analyzed to the extent that the experiences of heavy trucks equipped with ABS and rear impact guards can be compared with the experiences of heavy trucks not so equipped.

Estimated Annual Burden: The annual burden is estimated to be 4,373 hours.

Number of Respondents: The state police in two states will report information on a total of 15,000 crashes.

Issued on: October 1, 2001.
William H. Walsh,
Associate Administrator for Plans and Policy.

[FR Doc. 01-24981 Filed 10-4-01; 8:45 am]

BILLING CODE 4910-59-P